DEPARTMENT OF DEFENSE

Department of the Army

Western Hemisphere Institute for Security Cooperation Board of Visitors; Meeting

AGENCY: Department of the Army, DoD.

ACTION: Notice of open meeting.

SUMMARY: This notice sets forth the schedule and summary agenda for the annual meeting of the Board of Visitors, Western Hemisphere Institute for Security Cooperation (WHINSEC). This meeting will be conducted as a telephone conference call. Members of the public will be able to listen in on the proceedings. Time is also allotted in the agenda for public comments by individuals and organizations that may wish to address the Board.

Date: Tuesday, November 19, 2013.

Time: 2 p.m. to 4 p.m. Eastern Standard Time (1 p.m. to 3 p.m. Central Standard Time).

Location: This will be a Telephonic Conference.

Proposed Agenda: Update briefings from the WHINSEC Commandant; Department of State; US Northern Command and US Southern Command; the Office of the Secretary of Defense (Policy); the Board's Subcommittees on Education and Outreach respectively; and Public Comments period.

FOR FURTHER INFORMATION CONTACT: Mr. Richard Procell at (913) 684-2963 or richard.procell@us.army.mil.

SUPPLEMENTARY INFORMATION: This meeting is open to the public. Pursuant to the Federal Advisory Committee Act of 1972 and 41 CFR 102-3.140(c), members of the public or interested groups may submit written statements to the advisory committee for consideration by its members. Written statements should be no longer than two type-written pages and sent via fax to (913) 684-2466 or emailed to richard.procell@us.army.mil by 5 p.m. EST on Tuesday, November 12, 2013, for consideration at this meeting. Public comments by individuals and organizations may be made from 2:50 p.m. to 3:00 p.m. EST during the meeting on November 19, 2013. Public comments will be limited to two minutes each. Anyone desiring to make an oral statement must register by sending a fax to (913) 684-2466 or email to richard.procell@us.army.mil with his/her name, phone number, email address, and text of his/her comments by 5 p.m. EST on Tuesday, November 12, 2013. The first five requestors will be notified by 5 p.m. EST on Thursday, November 14, 2013, of their time to address the Board during the public comment forum. All other comments will be retained for the record. Note that the number of teleconference lines is limited and will be available on a first-come, first-served basis. Members of the public wishing to participate in person on November 19, 2013, at WHINSEC, 7161 Richardson Circle, Fort Benning, GA 31905, please contact Mr. Richard Procell at (913) 684-2963 or richard.procell@us.army.mil for additional information.

Brenda S. Bowen,
Army Federal Register Liaison Officer.

[FR Doc. 2013-25921 Filed 10-30-13; 8:45 am]

BILLING CODE 3710-08-P